DEPARTMENT OF HEALTH AND HUMAN SERVICES

Administration for Children and Families

[CFDA Number: 93.092]

Announcement of a Single-Source Award to Healthy Families San Angelo, San Angelo, TX

AGENCY: Family and Youth Services Bureau, ACYF, ACF, HHS.

ACTION: Notice of award of a Single-Source Award under the Competitive Personal Responsibility Education Program (Competitive PREP) to Healthy Families of San Angelo (HFSA) in San Angelo, Texas to support continued participation in the federal PREP impact evaluation.

SUMMARY: The Administration for Children and Families (ACF), Administration on Children, Youth and Families (ACYF), Family and Youth Services Bureau (FYSB), announces a single-source award in the amount of $750,000 to HFSA in San Angelo, TX for the purpose of continued participation in the federal impact evaluation. The award allows sufficient time to complete evaluation related activities of the Steps to Success program. Steps to Success is a comprehensive, culturally appropriate intervention that seeks to postpone subsequent pregnancies and increase safe sex behaviors for high-risk pregnant and parenting teens.

DATES: The period of support under this single-source award is February 1, 2016, through June 30, 2017.

FOR FURTHER INFORMATION CONTACT: LeBretia White, Manager, Adolescent Pregnancy Prevention Program, Division of Adolescent Development and Support, Family and Youth Services Bureau, 330 C Street SW., Washington, DC 20024. Telephone: 202-205-9605; Email: LeBretia.White@acf.hhs.gov.

SUPPLEMENTARY INFORMATION: HFSA was selected as a site for the PREP federal impact evaluation as a result of a strong program design. The impact evaluation addresses significant gaps in the teen pregnancy prevention evidence base. Currently, there is little rigorous evidence on strategies effective in reducing repeat pregnancies among adolescent mothers. HFSA's program will help fill that gap due to its focus on reducing subsequent pregnancies and long acting reversible contraception. If impacts are found, the HFSA program can be added to the U.S. Department of Health and Human Services teen pregnancy evidence review list. This award allows time for evaluation activities to be completed including the collection and analysis of data.

Statutory Authority: Section 2953 of the Patient Protection and Affordable Care Act of 2010, Pub. L. 111-148, added Section 513 to Title V of the Social Security Act, codified at 42 U.S.C. 713, authorizing the Personal Responsibility Education Program.

Christopher Beach,
Senior Grants Policy Specialist, Division of Grants Policy, Office of Administration.

[FR Doc. 2016-13415 Filed 6-6-16; 8:45 am]

BILLING CODE 4184-37-P